DEPARTMENT OF TRANSPORTATION

ITS Joint Program Office; Intelligent Transportation Systems Program Advisory Committee; Notice of Meeting

AGENCY: Research and Innovative Technology Administration, U.S. Department of Transportation.

ACTION: Notice.

This notice announces, pursuant to Section 10(a)(2) of the Federal Advisory Committee Act (FACA) (Pub. L. 72-363; 5 U.S.C. app. 2), a meeting of the Intelligent Transportation Systems (ITS) Program Advisory Committee (ITSPAC). The meeting will be held on April 7, 2010, 8 a.m. to 4:30 p.m., in the Oklahoma Conference Room of the U.S. Department of Transportation (U.S. DOT) Conference Center on the lobby level of the U.S. DOT West Building, 1200 New Jersey Avenue, SE., Washington DC.

The ITSPAC, established under Section 5305 of Public Law 109-59, Safe, Accountable, Flexible, Efficient Transportation Equity Act: A Legacy for Users, August 10, 2005, and re-chartered on February 7, 2010, was created to advise the Secretary of Transportation on all matters relating to the study, development, and implementation of intelligent transportation systems. Through its sponsor, the ITS Joint Program Office (JPO), the ITSPAC makes recommendations to the Secretary regarding ITS Program needs, objectives, plans, approaches, content, and progress.

Following is the meeting preliminary agenda: (1) U.S. DOT Welcome Remarks; (2) Committee Chairman Welcome Remarks; (3) Committee Member Interest Areas; (4) U.S. DOT Governance Through ITS Management Council, Strategic Planning Group, and JPO Management Plan; (5) Evolution of IntelliDrive℠; (6) ITS Strategic Research Plan, 2010-2014; (7) University Transportation Centers Engagement; (8) Applications for the Environment: Real-Time Information Synthesis (AERIS) Program; (9) ITS America 20th Annual Meeting and Exposition: Committee Attendance and Exhibition Tour; and (10) Committee Governance and Staying Connected.

The meeting will be open to the public, but limited space will be available on a first-come, first-served basis. Since access to the U.S. DOT building is controlled, non-committee members who plan to attend the meeting must notify Mr. Stephen Glasscock, the Committee Designated Federal Official, at (202) 366-9126 not later than April 2, 2010. Individuals attending the meeting must report to the 1200 New Jersey Avenue entrance of the U.S. DOT Building for admission. Members of the public who wish to present oral statements at the meeting must request approval from Mr. Glasscock not later than April 2, 2010.

Questions about the agenda or written comments may be submitted by U.S. Mail to: U.S. Department of Transportation, Research and Innovative Technology Administration, ITS Joint Program Office, Attention: Stephen Glasscock, 1200 New Jersey Avenue, SE., HOIT, Washington, DC 20590 or faxed to (202) 493-2027. The JPO requests that written comments be submitted prior to the meeting.

Notice of this meeting is provided in accordance with the FACA and the General Services Administration regulations (41 CFR part 102-3) covering management of Federal advisory committees.

Issued in Washington, DC, on the 15th day of March 2010.
John Augustine,
Deputy Director, ITS Joint Program Office.

[FR Doc. 2010-6197 Filed 3-19-10; 8:45 am]

BILLING CODE 4910-HY-P